DEPARTMENT OF ENERGY

Federal Energy Regulatory Commission

[Docket No. CP03-354-000]

Transcontinental Gas Pipe Line Corporation

November 20, 2003.

Take notice that on September 17, 2003, Transcontinental Gas Pipe Line Corporation (Transco), tendered for filing in Docket No. CP03-354-000 an application in abbreviated form, pursuant to section 7(b) of the Natural Gas Act (NGA), as amended, and the Rules and Regulations of the Federal Energy Regulatory Commission (Commission), for an order permitting and approving abandonment of an interruptible transportation service provided to Washington Gas Light Company (Washington Gas), under Transco's Rate Schedule X-118, all as more fully set forth in the application which is on file with the Commission and open to public inspection.

Transco states that it does not propose to abandon any facilities pursuant to the instant application. Transco further states that no service to any of its other customers will be affected by the abandonment authorization requested herein.

Any person desiring to be heard or to protest said filing should file a motion to intervene or a protest with the Federal Energy Regulatory Commission, 888 First Street, NE., Washington, DC 20426, in accordance with § 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link. Comment Date: December 1, 2003.

Magalie R. Salas,
Secretary.

[FR Doc. E3-00410 Filed 11-28-03; 8:45 am]

BILLING CODE 6717-01-P